DEPARTMENT OF TRANSPORTATION

Federal Aviation Administration

14 CFR Part 39

[Docket No. 2000-CE-04-AD; Amendment 39-11715; AD 2000-09-06]

RIN 2120-AA64

Airworthiness Directives; Maule Aerospace Technology, Inc. M-4, M-5, M-6, M-7, MX-7, and MXT-7 Series Airplanes and Models MT-7-235 and M-8-235 Airplanes

AGENCY: Federal Aviation Administration, DOT.

ACTION: Final rule; request for comments.

SUMMARY: This amendment adopts a new airworthiness directive (AD) that applies to certain Maule Aerospace Technology, Inc. (Maule) M-4, M-5, M-6, M-7, MX-7, and MXT-7 series airplanes and Models MT-7-235 and M-8-235 airplanes. This AD requires you to inspect all Nicopress™ sleeve terminal ends for correct size compression, with adjustment or replacement, as necessary. This AD results from a report of the rudder cable slipping out of the Nicopress™ sleeve while one of the affected airplanes was landing. The actions specified by this AD are intended to detect and correct improper crimping of the Nicopress™ sleeve, which could cause a control cable to slip from the sleeve. This could result in loss of rudder, elevator, aileron, or flap control.

DATES: This AD becomes effective on May 30, 2000. The Director of the Federal Register approved the incorporation by reference of certain publications listed in the regulation as of May 30, 2000.

The Federal Aviation Administration (FAA) must receive any comments on this rule on or before June 23, 2000.

ADDRESSES: Submit comments in triplicate to FAA, Central Region, Office of the Regional Counsel, Attention: Rules Docket No. 2000-CE-04-AD, 901 Locust, Room 506, Kansas City, MO 64106.

You may get the service information referenced in this AD from Maule Aerospace Technology Inc., 2099 Georgia Highway 133 South, Moultrie, GA 31768; telephone: (912) 985-2045, facsimile: (912) 890-2402.

You may examine this information at FAA, Central Region, Office of the Regional Counsel, Attention: Rules Docket No. 2000-CE-04-AD, 901 Locust, Room 506, Kansas City, MO 64106; or at the Office of the Federal Register, 800 North Capitol Street, NW, suite 700, Washington, DC.

FOR FURTHER INFORMATION CONTACT: Cindy Lorenzen, Aerospace Engineer, FAA, Atlanta Aircraft Certification Office, One Crown Center, 1895 Phoenix Boulevard, suite 450, Atlanta, GA 30349; telephone: (770) 703-6078, facsimile: (770) 703-6097.

SUPPLEMENTARY INFORMATION:

Discussion

What Events Have Caused This AD?

The FAA has received a report of the rudder cable slipping out of the Nicopress™ sleeve while a Maule Model M-7-235C airplane was landing. Investigation of this accident revealed that the Nicopress™ sleeve was not adequately crimped and was slightly larger than the gauge dimension.

What Is the Cause of the Problem?

Maule did not set a crimping tool to correct specification for the elevator and rudder cables that were installed on certain Maule airplane models on Type Certificate No. 3A23, Revision 26, dated April 6, 2000. Maule has no way of determining exactly what time frame the crimping tool was not set to specification. Each airplane utilizes approximately 27 Nicopress™ sleeves.

The airplane models affected are listed in the AD portion of this document.

What Are the Consequences if the Condition Is Not Corrected?

An improperly crimped Nicopress™ sleeve, if not detected and corrected, could cause a control cable to slip from the sleeve. This could result in loss of rudder, elevator, aileron, or flap control.

Is There Service Information That Applies to This Subject?

Maule has issued Mandatory Service Bulletin No. 20, dated December 27, 1999.

What Are the Provisions of This Service Bulletin?

The service bulletin:

• Includes procedures for inspection of all Nicopress™ sleeve terminal ends for correct size compression; and

• Specifies provisions for adjustment or replacement, as necessary.

FAA's Determination and an Explanation of the Provisions of the AD

What Has FAA Decided?

After examining the circumstances and reviewing all available information related to the incidents described above, including the relevant service information, FAA has determined that:

• An unsafe condition exists or could develop on certain Maule M-4, M-5, M-6, M-7, MX-7, and MXT-7 series airplanes and Models MT-7-235 and M-8-235 airplanes of the same type design; and

• AD action should be taken in order to detect and correct improper crimping of the Nicopress™ sleeve, which could cause a control cable to slip from the sleeve.

What Does This AD Require?

This AD requires you to inspect all Nicopress™ sleeve terminal ends for correct size compression, with adjustment or replacement, as necessary.

Will I Have the Opportunity To Comment Prior to the Issuance of the Rule?

Because the unsafe condition described in this document could result in loss of rudder, elevator, aileron, or flap control, FAA finds that notice and opportunity for public prior comment are impracticable. Therefore, good cause exists for making this amendment effective in less than 30 days.

Comments Invited

Although this action is in the form of a final rule and was not preceded by notice and opportunity for public comment, FAA invites comments on this rule. You may submit whatever written data, views, or arguments you choose. You need to include the rule's docket number and submit your comments in triplicate to the address specified under the caption ADDRESSES. The FAA will consider all comments received on or before the closing date. We may amend this rule in light of comments received. Factual information that supports your ideas and suggestions is extremely helpful in evaluating the effectiveness of the AD action and determining whether we need to take additional rulemaking action.

The FAA is re-examining the writing style we currently use in regulatory documents, in response to the Presidential memorandum of June 1, 1998. That memorandum requires federal agencies to communicate more clearly with the public. We are interested in your comments on whether the style of this document is clearer, and any other suggestions you might have to improve the clarity of FAA communications that affect you. You can get more information about the Presidential memorandum and the plain language initiative at http://www.plainlanguage.gov.

The FAA specifically invites comments on the overall regulatory, economic, environmental, and energy aspects of the rule that might suggest a need to modify the rule. You may examine all comments we receive before and after the closing date of the rule in the Rules Docket. We will file a report in the Rules Docket that summarizes each FAA contact with the public that concerns the substantive parts of this AD.

If you want us to acknowledge the receipt of your comments, you must include a self-addressed, stamped postcard. On the postcard, write “Comments to Docket No. 2000-CE-04-AD.” We will date stamp and mail the postcard back to you.

Regulatory Impact

These regulations will not have a substantial direct effect on the States, on the relationship between the national Government and the States, or on the distribution of power and responsibilities among the various levels of government. Therefore, FAA has determined that this final rule does not have federalism implications under Executive Order 13132.

The FAA has determined that this regulation is an emergency regulation that must be issued immediately to correct an unsafe condition in aircraft, and is not a significant regulatory action under Executive Order 12866. We have determined that this action involves an emergency regulation under DOT Regulatory Policies and Procedures (44 FR 11034, February 26, 1979). If FAA determines that this emergency regulation otherwise would be significant under DOT Regulatory Policies and Procedures, we will prepare a final regulatory evaluation. You may obtain a copy of the evaluation (if required) from the Rules Docket.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends Section 39.13 by adding a new airworthiness directive (AD) to read as follows:

2000-09-06 Maule Aerospace Technology, Inc.: Amendment 39-11715; Docket No. 2000-CE-04-AD.

(a) What airplanes are affected by this AD? This AD affects the following airplane models and serial numbers, certificated in any category:

Group 1 Airplanes
Models | Serial numbers
MX-7-160C | 34001C.
M-7-260C | 30001C through 30004C, 30007C through 30011C, 30013C, and 30014C.
M-7-420AC | 29001C.
MX-7-180C | 28001C through 28011C.
MT-7-260 | 27001C and 27003C.
M-7-260 | 26002C through 26007C.
M-7-235C | 25001C through 25037C, 25040C, 25041C, and 25044C.
M-7-235A | 24001C.
M-7-235B | 23001C through 23056C, 23058C, and 23059C.
MX-7-180B | 22001C through 22016C.
MXT-7-180A | 21001C through 21067C, 21070C, 21072C, 21076C, 21077C, 21079C, and 21081C.
MX-7-180A | 20001C through 20063C.
MX-7-160 | 19001C through 19046C.
MXT-7-160 | 17001C through 17008C.
MT-7-235 | 18001C through 18041C, 18044C, and 18047C.
M-8-235 | 15001C through 15005C.
MXT-7-180 | 14000C through 14095C.
MX-7-180 | 11066C through 11097C.
MX-7-235 | 10081C through 10122C.
M-7-235 | 4078C, 4080C, 4083C, 4086C, and 4089C through 4132C.
M-6-235 | 7508C, 7510C, 7516C, and 7518C through 7521C.

Group 2 Airplanes
Models | Serial numbers
Bee Dee M-4 | 3 through 14.
M-4 | 3 through 94 (Bee Dee: 3-14; and M-4: 15-94).
M-4C | 1C through 11C.
M-4S | 1S, 2S, and 3S.
M-4T | 1T, 2T, and 3T.
M-4-210 | 1001 through 1045.
M-4-210C | 1001C through 1117C.
M-4-220C | 2001C through 2190C.
M-4-220S | 2001S.
M-4-180C | 3001C through 3006C.
M-5-200 | 8015C and 8022C.
M-5-210C | 6001C through 6206C.
M-5-220C | 5001C through 5057C.
M-5-235C | 7001C through 7248C, 7250C through 7353C, A7354C, A7355C, 7356C, 7357C, A7358C, 7359C, A7360C, A7361C, 7362C through 7365C, A7366C, A7367C, 7368C through 7376C, 7445C, 7451C, 7460C, 7467C, 7470C, 7478C through 7480C, 7484C through 7487C, and 7515C.
M-5-180C | 8001C through 8014C, 8016C through 8019C, 8021C, 8023C through 8042C, 8044C through 8064C, and 8068C through 8094C.
M-5-210T | 9001C through 9010C.
M-6-235 | 7249C, 7356C, 7379C through 7444C, 7446C through 7450C, 7452C through 7459C, 7461C through 7466C, 7468C, 7469C, 7471C through 7475C, 7488C through 7507C, 7509C, 7511C through 7514C, and 7517C.
M-6-180 | 8020C, 8043C, and 8065C through 8067C.
M-7-235 | 4001C through 4077C, 4079C, 4081C, 4082C, 4084C, 4085C, 4087C, and 4088C.
M-7-235 | 12001C and 12002C. These airplanes were manufactured as Model M-7-235 airplanes and then modified in accordance with STC SA2661SO. This modification changed the model designation of these airplanes to M-7-420.
MX-7-235 | 10001C through 10080C.
MX-7-180 | 11001C through 11065C.
MX-7-420 | 13001C through 13003C.

(b) Who must comply with this AD? Anyone who wishes to operate any of the above airplanes on the U.S. Register must comply with this AD.

(c) What problem does this AD address? The actions specified by this AD are intended to detect and correct improper crimping of the Nicopress™ sleeve, which could cause a control cable to slip from the sleeve. This could result in loss of rudder, elevator, aileron, or flap control.

(d) What must I do to address this problem? To address this problem, accomplish the following:

Action | Compliance time | Procedures
Inspect all Nicopress ™ sleeve terminal ends for correct size compression. | For Group 1 airplanes: Within the next 25 hours time-in-service (TIS) after May 30, 2000 (the effective date of this AD); and | Accomplish in accordance with the ACTION TO BE TAKEN AND TOOLS REQUIRED section of Maule Mandatory Service Bulletin No. 20, dated December 27, 1999.
| For Group 2 airplanes: Within the next 100 hours TIS after May 30, 2000 (the effective date of this AD). |
Adjust or replace any terminal compressions that are outside of the limits specified in the service information. | Prior to further flight after the inspection required by this AD. | Accomplish in accordance with the ACTION TO BE TAKEN AND TOOLS REQUIRED section of Maule Mandatory Service Bulletin No. 20, dated December 27, 1999.
Do not install a Nicopress ™ sleeve without assuring that the terminal compressions are within the limits specified in the service information. | As of May 30, 2000 (the effective date of this AD). | Accomplish in accordance with the ACTION TO BE TAKEN AND TOOLS REQUIRED section of Maule Mandatory Service Bulletin No. 20, dated December 27, 1999.

(e) Can I comply with this AD in any other way? (1) You may use an alternative method of compliance or adjust the compliance time if:

(i) Your alternative method of compliance provides an equivalent level of safety; and

(ii) The Manager, Atlanta Aircraft Certification Office (ACO), approves your alternative. Submit your request through an FAA Principal Maintenance Inspector, who may add comments and then send it to the Manager, Atlanta ACO.

(2) This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e)(1) of this AD. The request should include an assessment of the effect of the modification, alteration, or repair on the unsafe condition addressed by this AD; and, if you have not eliminated the unsafe condition, specific actions you propose to address it.

(f) Where can I get information about any already-approved alternative methods of compliance? Contact Cindy Lorenzen, Aerospace Engineer, FAA, Atlanta Aircraft Certification Office, One Crown Center, 1895 Phoenix Boulevard, suite 450, Atlanta, GA 30349; telephone: (770) 703-6078; facsimile, (770) 703-6097.

(g) What if I need to fly the airplane to another location to comply with this AD? FAA can issue a special flight permit under sections 21.197 and 21.199 of the Federal Aviation Regulations (14 CFR 21.197 and 21.199) to operate your airplane to a location where you can accomplish the requirements of this AD .

(h) Are any service bulletins incorporated into this AD by reference? You must accomplish the actions required by this AD in accordance with Maule Mandatory Service Bulletin No. 20, dated December 27, 1999. The Director of the Federal Register approved this incorporation by reference under 5 U.S.C. 552(a) and 1 CFR part 51. You can get copies from Maule Aerospace Technology, Inc., 2099 Georgia Hwy. 133 South, Moultrie, GA 31768. You can look at copies at FAA, Central Region, Office of the Regional Counsel, 901 Locust, Room 506, Kansas City, MO, or at the Office of the Federal Register, 800 North Capitol Street, NW, suite 700, Washington, DC.

(i) When does this amendment become effective? This amendment becomes effective on May 30, 2000.

Issued in Kansas City, Missouri, on April 27, 2000.
Michael Gallagher,
Manager, Small Airplane Directorate, Aircraft Certification Service.

[FR Doc. 00-11176 Filed 5-8-00; 8:45 am]

BILLING CODE 4910-13-U